DEPARTMENT OF AGRICULTURE

Animal and Plant Health Inspection Service

[Docket No. APHIS-2011-0115]

General Conference Committee of the National Poultry Improvement Plan; Cancellation of Meeting

AGENCY: Animal and Plant Health Inspection Service, USDA.

ACTION: Notice of cancellation of meeting.

SUMMARY: We are giving notice that the meeting of the General Conference Committee of the National Poultry Improvement Plan scheduled for January 25, 2012, has been canceled.

FOR FURTHER INFORMATION CONTACT: Dr. C. Stephen Roney, Senior Coordinator, National Poultry Improvement Plan, VS, APHIS, 1506 Klondike Road, Suite 300, Conyers, GA 30094; (770) 922-3496.

SUPPLEMENTARY INFORMATION: In a document published in the Federal Register on January 9, 2012 (77 FR 1051-1052, Docket No. APHIS-2011-0115), we announced that there would be a meeting of the General Conference Committee of the National Poultry Improvement Plan in Atlanta, GA, on January 25, 2012. Due to circumstances beyond our control, we must cancel the meeting. We regret any inconvenience caused by the cancellation.

Done in Washington, DC, this 19th day of January 2012.
Kevin Shea,
Acting Administrator, Animal and Plant Health Inspection Service.

[FR Doc. 2012-1427 Filed 1-23-12; 8:45 am]

BILLING CODE 3410-34-P